DEPARTMENT OF DEFENSE

Department of the Army

Record of Decision for the Proposed Leasing of Lands at Fort Bliss, Texas for the Proposed Siting, Construction, and Operation by the City of El Paso of a Brackish Water Desalination Plant and Support Facilities

AGENCY: Department of the Army, DoD.

ACTION: Notice.

SUMMARY: The Department of the Army announces the execution of a Record of Decision (ROD) to grant an easement to the City of El Paso, El Paso Water Utilities (EPWU), for land in the South Training Areas of Fort Bliss for construction and operation of a desalination plant and support facilities, including wells, pipelines, and disposal sites for the residual brine, referred to as concentrate, resulting from the desalination process. The ROD was signed on March 7, 2005, pursuant to the completion of a Final Environmental Impact Statement (FEIS) dated December 2004.

ADDRESSES: To obtain copies of the ROD, contact John F. Barrera (915) 568-3908 or write to: Fort Bliss Directorate of the Environment, ATTN: IMSW-BLS-Z, Building 624, Pleasanton Road, Fort Bliss, TX 79916-6812.

FOR FURTHER INFORMATION CONTACT: John F. Barrera, (915) 568-3908.

SUPPLEMENTARY INFORMATION: The desalination plant is needed to provide an additional reliable source of potable water for the City of El Paso and Fort Bliss. Currently, both EPWU and Fort Bliss pump fresh groundwater from the Hueco Bolson Aquifer. Ongoing withdrawals of fresh groundwater from the bolson exceed the aquifer's recharge rate. Pumping of fresh groundwater by EPWU, the Army, Ciudad Juarez, and others has resulted in declining groundwater levels in the bolson. Brackish groundwater is intruding into the aquifer's freshwater area and has the potential to affect existing water wells on Fort Bliss and in other areas of El Paso. The desalination plant will treat brackish (salty) water from the Hueco Bolson Aquifer to provide potable water for use by the city and Fort Bliss.

The FEIS addressed the potential environmental effects of the proposed project and analyzed seven alternatives in detail; six action alternatives and the No Action Alternative. The six action alternatives comprised alternative combinations of three candidate sites for the desalination plant itself—Sites 1, 2, and 3—and two alternatives for disposing of the concentrate, deep-well injection and evaporation ponds. The Army has decided to grant an easement to EPWU to implement Alternative 3, consisting of desalination plant Site 3, an undeveloped site near Montana Avenue east of El Paso International Airport, and disposal of the concentrate through deep-well injection at a location in the northeast corner of the South Training Areas of Fort Bliss near the Texas-New Mexico border.

In reaching this decision, the Army considered its own needs for a reliable source of potable water, compatibility with its training mission, and the environmental consequences associated with each alternative. The Army decided not to select the No Action Alternative because it fails to address the issues of declining freshwater supplies and impending brackish groundwater intrusion on Fort Bliss wells. Among the action alternatives, the Army selected deep-well injection as the preferred concentrate disposal method because it is the preferred method of EPWU and, with the protection provided by the Texas Commission on Environmental Quality permitting process, appears to have less potential for adverse environmental impacts than the evaporation ponds. The three desalination plant sites do not differ materially in their compatibility with the Army's mission or their environmental effects; therefore, the Army selected Site 3 because it is EPWU's preferred site due to its proximity to roads and utilities, as well as to EPWU's water distribution system.

All practicable means of avoiding or minimizing environmental harm have been adopted through site selection and mitigation measures. The desalination plant site does not contain sensitive cultural or biological resources, and a desalination plant is compatible with near-by land uses. Mitigation measures to be implemented by EPWU to further reduce the potential for adverse environmental impact include the following:

1. Using dust suppression measures during ground disturbance to prevent erosion and wind-blown dust.

2. Installing pressure monitors in the concentrate pipeline to detect leaks or catastrophic failures and developing an emergency action plan to minimize the release of concentrate during an accident or equipment failure.

3. Designing the access road to the desalination plant site to minimize impact to traffic flow on Montana Avenue.

4. Establishing a procedure for EPWU to coordinate access to the injection wells and concentrate pipelines with Fort Bliss to ensure required maintenance can be performed with minimal interference with the Army's mission at Fort Bliss.

These mitigation measures will be included as conditions of the easement to be granted by the Army to EPWU.

Hugh M. Exton, Jr.,
Director, SWRO, Installation Management Agency.

[FR Doc. 05-5326 Filed 3-16-05; 8:45 am]

BILLING CODE 3710-08-M